DEPARTMENT OF HEALTH AND HUMAN SERVICES

Office of Inspector General

Program Exclusions: September 2003

AGENCY: Office of Inspector General, HHS.

ACTION: Notice of program exclusions.

During the month of September 2003, the HHS Office of Inspector General imposed exclusions in the cases set forth below. When an exclusions is imposed, no program payment is made to anyone for any items or services (other than an emergency item or service not provided in a hospital emergency room) furnished, ordered or prescribed by an excluded party under the Medicare, Medicaid, and all Federal Health Care programs. In addition, no program payment is made to any business or facility, e.g., a hospital, that submits bills for payment for items or services provided by an excluded party. Program beneficiaries remain free to decide for themselves whether they will continue to use the services of an excluded party even though no program payments will be made for items and services provided by that excluded party. The exclusions have national effect and also apply to all Executive Branch procurement and non-procurement programs and activities.

Office of Investigation, Office of Inspector General—DHHS Case Investigation Management System
[For press release from 09/01/2003-09/30/2003]
Subject name | Address | Effective date
Program-Related Convictions
Arca, William | Oceanside, NY | 10/20/2003
Arias, Grisel | Miami, FL | 10/20/2003
Arias, Idania | Miami, FL | 10/20/2003
Badalyan, Arsen | Van Nuys, CA | 10/20/2003
Batiste, Vernida | Marrero, LA | 10/20/2003
Benson, Kelly | North Mankato, MN | 10/20/2003
Bishop, Michael | Casa Grande, AZ | 10/20/2003
Boisseau, Carlene | Chester, VA | 10/20/2003
Boland, C | Easley, SC | 10/20/2003
Bouza, Vicente | Miami, FL | 10/20/2003
Burgos, Marco | Miami Beach, FL | 10/20/2003
Burgos, Suzanne | Miami Beach, FL | 10/20/2003
Carter, Valarie | Los Angeles, CA | 10/20/2003
Cash, Lenard | San Antonio, TX | 10/20/2003
Clark, Merle | Oceanside, NY | 10/20/2003
Clements, Deborah | Whitehall, OH | 10/20/2003
Coppin, Leslie | Highlands Ranch, CO | 10/20/2003
Cortez, Josie | Alhambra, CA | 10/20/2003
Crow, Ronald | Beaver, WV | 10/20/2003
Curran, Joan | Avon, OH | 10/20/2003
De Jesus, Lorna | Long Beach, CA | 10/20/2003
Deshields, Cynthia | Philadelphia, PA | 10/20/2003
Dewan, Suman | New Orleans, LA | 12/4/2002
Donaghy, Thomas | Whitehall, OH | 10/20/2003
Donohue, Joseph | Sheridan, OR | 10/20/2003
Edgar, Daniel | Peachtree City, GA | 10/20/2003
EMA Medical Laboratory, Inc | Ridgewood, NY | 10/20/2003
Exsted, Melody | Sandstone, MN | 10/20/2003
Feldman, Gary | Lompoc, CA | 10/20/2003
Ferran, Osmin | Miami, FL | 10/20/2003
Flemons, Michael | Venus, TX | 10/20/2003
Franklin, Dwonne | Minneapolis, MN | 10/20/2003
Gezvkarayan, Khachik | Eloy, AZ | 10/20/2003
Gibson, Michelle | Grove City, OH | 10/20/2003
Greenwood, Billy | Eglin AFB, FL | 10/20/2003
Guardado Valle, Priscilia | Los Angeles, CA | 10/20/2003
Guarglia, Gerald | Raleigh, NC | 10/20/2003
Hahn, Madelyn | Buda, TX | 10/20/2003
Harris, Sara | Albuquerque, NM | 10/20/2003
Henderson, Burgandy | Columbus, OH | 10/20/2003
Iheagwara, Michael | North Bay Village, FL | 10/20/2003
Judge, Michael | Warwick, RI | 10/20/2003
Katona, Tibor | Mequon, WI | 10/20/2003
Khanin, Yuliy | Fort Dix, NJ | 10/20/2003
Kobrin, Kennard | Barrington, RI | 10/20/2003
Landau, Herbert | Fort Salonga, NY | 10/20/2003
Landrove, Dalia | Miami, FL | 10/20/2003
Lewis, Robert | Los Angeles, CA | 10/20/2003
Lievertz, Randolph | Rochester, MN | 10/20/2003
Livio, Renee | Coleman, FL | 10/20/2003
Lopez, Jose | Hialeah, FL | 10/20/2003
Manzano, Carlos | Miami, FL | 10/20/2003
Margulis, Eugene | Brooklyn, NY | 10/20/2003
Mason, Ellen | O'Fallon, IL | 10/20/2003
Mason, Samuel | Reisterstown, MD | 10/20/2003
Murphy, Terry | Miami, FL | 10/20/2003
Nazaryan, Tigran | Fresno, CA | 10/20/2003
Nepokroeff, Mark | Lewisburg, PA | 10/20/2003
Nickelson, Betty | Mabank, TX | 10/20/2003
Nuckols, Cardwell | Apopka, FL | 10/20/2003
O & J Pharmacy Inc | Hempstead, NY | 10/20/2003
Pal, Anceline | La Habra, CA | 5/23/2003
Perry, Mary | Rye, NY | 10/20/2003
Rasoulinejad, Zohreh | Alpine, NJ | 10/20/2003
Reed-Proctor, Alfredia | Houston, TX | 10/20/2003
Richman, Darlena | Tampa, FL | 10/20/2003
Rivera, Victor | Miami, FL | 10/20/2003
Rohr, Carl | Forest City, AR | 10/20/2003
Rolle, Leon | Miami Shores, FL | 10/20/2003
Ross, Chom | Long Beach, CA | 6/16/2003
Ross, Vanareth | Long Beach, CA | 5/21/2003
Sajan, John | Avon Lake, OH | 10/20/2003
Salih, Tariq | Richmond, VA | 10/20/2003
Sanchez, Donald | Apple Valley, CA | 10/20/2003
Sarduy, Pedro | Aventura, FL | 10/20/2003
Scarboro, Michael | Petersburg, VA | 10/20/2003
Servillas, Emmanuel | Bensalem, PA | 10/20/2003
Sheikh, Mohammad | Ridgewood, NY | 10/20/2003
Sklar, Herbert | Plainview, NY | 10/20/2003
Smith, Cynthia | Beaverdam, VA | 10/20/2003
Steffens, Paul | Manchester, NJ | 10/20/2003
Strickland, Cynthia | Natchez, MS | 10/20/2003
Thomas, Evelyn | Bryan, TX | 10/20/2003
Thomsen, Violet | La Grande, OR | 10/20/2003
Turin, Jill | Weston, FL | 10/20/2003
Udi, Joseph | Los Angeles, CA | 10/20/2003
Valencia, Richard | Miami, FL | 10/20/2003
Vargas, Barbara | Middletown, CA | 10/20/2003
Voloshin, Emma | Milwaukee, WI | 10/20/2003
Ward, Aneta | Portsmouth, VA | 10/20/2003
Ward, John | Pensacola, FL | 10/20/2003
Watson, Candace | Coshocton, OH | 10/20/2003
Watson, Douglas | Cadwell, OH | 10/20/2003
Watson, Michkell | Marysville, OH | 10/20/2003
Womer, Jon | W Berlin, VT | 10/20/2003
Felony Conviction for Health Care Fraud
Bako, Joseph | Maineville, OH | 10/20/2003
Caminita, Paula | Moulton, AL | 10/20/2003
Chatterjee, Ranendra | Hull, MA | 10/20/2003
Evans, Roland | New Brunswick, NJ | 10/20/2003
Hamilton, John | N Las Vegas, NV | 10/20/2003
Harvey, Edward | Fairfield, CA | 10/20/2003
Heater, Rebecca | Barberton, OH | 10/20/2003
Higgwe, Golden | Canton, MI | 10/20/2003
Hoffman, Janie | Clanton, AL | 10/20/2003
Lakhter, Alexander | Brooklyn, NY | 10/20/2003
Manassa, Verjean | Dearborn, MI | 10/20/2003
Mount, Patricia | Marianna, FL | 10/20/2003
Pattat, Clayton | Ripley, TN | 10/20/2003
Peistrup, Gordon | St. Louis, MO | 10/20/2003
Provost, Linda | Woburn, MA | 10/20/2003
Provost, Robert | Malone, NY | 10/20/2003
Ragains, Vicki | Palm Harbor, FL | 10/20/2003
Rassel, John | Perry, MI | 10/20/2003
Redmon, Ruth | Rio Linda, CA | 10/20/2003
Sapronetti, Constance | Marysville, OH | 10/20/2003
Sternberg, Barbara | Yorktown Heights, NY | 10/20/2003
Sullivan, Daniel | Bridgeport, CT | 10/20/2003
Felony Controlled Substance Conviction
Butler, Jason | Bedford, IN | 10/20/2003
Cramer, Mary | Freeport, IL | 10/20/2003
Dover, Nikie | Rolla, MO | 10/20/2003
Easter, Thomas | El Paso, TX | 10/20/2003
Hunter, Frances | Dayton, OH | 10/20/2003
Johnson, Terri | Oregon, WI | 10/20/2003
Kader, Ayman | Dennison, OH | 10/20/2003
Lynch, Kevin | Cumberland, MD | 10/20/2003
Manno, Michael | Fort Dix, NJ | 10/20/2003
Margavage, Annette | Wilkes-Barre, PA | 10/20/2003
Martinez, Alfredo | Lowell, MI | 10/20/2003
Murphy, Amy | Milwaukee, WI | 10/20/2003
Newby, Michelle | Des Moines, IA | 10/20/2003
Ramos, Jesus | Strongsville, OH | 10/20/2003
Renshaw, Jason | Harleysville, PA | 10/20/2003
Stewart, Paula | Friendswood, TX | 10/20/2003
Weathersbee, Lisa | Graniteville, SC | 10/20/2003
Wilson, Jennifer | Tacoma, WA | 10/20/2003
Patient Abuse/Neglect Convictions
Alston, Katie | Columbia, LA | 10/20/2003
Bajaj, Anil | London, OH | 10/20/2003
Bernstein, Marc | Slingerlands, NY | 10/20/2003
Broadnax, Frederick | Columbia, LA | 10/20/2003
Brown, Robin | Las Vegas, NV | 10/20/2003
Burton, Tomekie | Prosperity, SC | 10/20/2003
Davis, Jency | Alexandria, LA | 10/20/2003
Ealy, Carole | Las Vegas, NV | 10/20/2003
Fernando-Castillo, Maria | Las Vegas, NV | 10/20/2003
Friedman, Kenneth | Waterford, MI | 10/20/2003
Galler, Marvin | Williamsville, NY | 7/10/2003
Hayes, Dorothy | Savannah, GA | 10/20/2003
Hubbard, Robert | Jackson, MS | 10/20/2003
Hutson, Francis | Iuka, MS | 10/20/2003
Jones, Sharon | Detroit, MI | 10/20/2003
Lin, John | Walnut Creek, CA | 10/20/2003
Martinez, Irma | Waco, TX | 10/20/2003
Masters, Sylvia | Davisburg, MI | 10/20/2003
Mondragon, Anita | Blanca, CO | 10/20/2003
Moore, Carol | Winona, MS | 10/20/2003
Morgan, Leona | Bruceton, TN | 10/20/2003
Mosley, Vincent | Meridian, MS | 10/20/2003
Nalabolu, Dasharathram | Centerville, OH | 10/20/2003
Nieto, Corazon | Ewa Beach, HI | 10/20/2003
Robertson, Laura | Baton Rouge, LA | 10/20/2003
Stroman, Ken | Romulus, MI | 10/20/2003
Walton, Glenda | Kentwood, LA | 10/20/2003
Watkins, Connell | Canon City, CO | 10/20/2003
Welch, John | Concord, NH | 10/20/2003
Wells, Sue | Union Grove, WI | 10/20/2003
Conviction for Health Care Fraud
Lewis, Mary | Mahopac, NY | 10/20/2003
Morrison, Dolores | Tacoma, WA | 10/20/2003
Conviction-Obstruction of an Investigation
Sviridovskaya, Galina | Brooklyn, NY | 10/20/2003
Controlled Substance Convictions
Vique, Debra | Hemlock, MI | 10/20/2003
License Revocation/Suspension/Surrendered
Aldenhagen, Elizabeth | Columbus, IN | 10/20/2003
Allen, Sally | Raleigh, NC | 10/20/2003
Anderson, David | Trenton, NJ | 10/20/2003
Anderson, Kimberly | Burtonsville, MD | 10/20/2003
Arora, Ram | Bloomfield Hills, MI | 10/20/2003
Asberry, Ayanna | San Bernardino, CA | 10/20/2003
Asberry, Norman | Moreno Valley, CA | 10/20/2003
Avance, Dale | Anaheim, CA | 10/20/2003
Bales, Kristina | Fayetteville, NC | 10/20/2003
Ballenger, Linda | Winchester, IN | 10/20/2003
Bank, Daniel | Charleston, SC | 10/20/2003
Bass, Kolby | Pueblo, CO | 10/20/2003
Baxter, Lisa | Little Rock, AR | 10/20/2003
Beavers Vaughn, Kendra | El Reno, OK | 10/20/2003
Benites, Adelaida | Providence, RI | 10/20/2003
Bennett, Polly | Tulsa, OK | 10/20/2003
Bennett, Sandra | Pottersville, MO | 10/20/2003
Betz, Wendy | Winthrop, MA | 10/20/2003
Black, Diane | Sun Prairie, WI | 10/20/2003
Bleakney, Christine | Seattle, WA | 10/20/2003
Boaman, Bethany | Madison, WI | 10/20/2003
Bond, Mark | Hamlin, PA | 10/20/2003
Boone, Catherine | Richfield, MN | 10/20/2003
Boyd, Susan | Santa Clara, CA | 10/20/2003
Branham, Kristin | Bedford, IN | 10/20/2003
Brown, Kristie | Tulsa, OK | 10/20/2003
Brown, Sandors | Leesburg, VA | 10/20/2003
Buck, Donna | Grifton, NC | 10/20/2003
Buck, Lori | Shelton, WA | 10/20/2003
Byrnes, Lori | Tampa, FL | 10/20/2003
Cade, Stephen | Montana City, MT | 10/20/2003
Cairns, Kathey | Bremerton, WA | 10/20/2003
Carpenter, Sandra | Brooksville, FL | 10/20/2003
Carter, Rachel | Charlotte, NC | 10/20/2003
Catchings, Marsha | Michigan City, IN | 10/20/2003
Champion, Tiffani | Clifton Heights, PA | 10/20/2003
Charlet, Alan | Paducah, KY | 10/20/2003
Chase, Carolyn | Show Low, AZ | 10/20/2003
Clark, Cheryl | Midwest City, OK | 10/20/2003
Claussen, Christy | Martin, OH | 10/20/2003
Colangelo, Carrie | Marathon, FL | 10/20/2003
Conley, Christine | Quincy, MA | 10/20/2003
Cornelison, Wanda | Oklahoma City, OK | 10/20/2003
Dacey, Michelle | Chicago, IL | 10/20/2003
Daskauskas, Donna | Baco Raton, FL | 10/20/2003
Davis, Clifford | Sherman Oaks, CA | 10/20/2003
Davis, Dennis | Blue River, WI | 10/20/2003
Davis, Jennifer | Tulsa, OK | 10/20/2003
Davison, Mark | Manchester, IA | 10/20/2003
Deibert, Joyce | Mohnton, PA | 10/20/2003
Denhalter, Scott | Hackettstown, NJ | 9/12/2003
Donikian, Serge | Granite City, IL | 10/20/2003
Dorr, Nancy | Rochester, MN | 10/20/2003
Downe, Phyllis | Lutz, FL | 10/20/2003
Downin, Alisha | Charlotte, NC | 10/20/2003
Dudley Beardsworth Bond, Jane | Twin Falls, ID | 10/20/2003
Dudzinski, Edward | Herndon, VA | 10/20/2003
Dulaney, Debbie | Reno, NV | 10/20/2003
Eaton, Hubert | Wilmington, NC | 10/20/2003
Eberle, Jeanne | Lynbrook, NY | 10/20/2003
England, Elizabeth | Gastonia, NC | 10/20/2003
Enriquez, Patricia | Racine, WI | 10/20/2003
Evans, Eugene | Montgomery, AL | 10/20/2003
Fennessey, Barbara | Gahanna, OH | 10/20/2003
Ferguson, Jon | Atascadero, CA | 10/20/2003
Foulks, Kimberly | Fort Wayne, IN | 10/20/2003
Fox, Barbara | White Horse Beach, MA | 10/20/2003
French, Richard | Seattle, WA | 10/20/2003
Fry, Robert | Harrah, OK | 10/20/2003
Gelfo, Carol | Pinehurst, NC | 10/20/2003
Gibson, Susan | Stuart, FL | 10/20/2003
Gookin, Stacy | Germantown, TN | 10/20/2003
Graham, Donald | New Haven, IN | 10/20/2003
Graham, Terri | Murphysboro, IL | 10/20/2003
Green, Joyce | Stockton, CA | 10/20/2003
Greer, Donna | Inverness, FL | 10/20/2003
Griesheimer, Nancy | Toledo, IL | 10/20/2003
Griffith, Cynthia | Scottsbluff, NE | 10/20/2003
Grindley, Clifford | Spokane, WA | 10/20/2003
Gronholz, Jolene | Luverne, MN | 10/20/2003
Gunderson, Carol | Des Moines, WA | 10/20/2003
Gunter, Penny | Pittsboro, NC | 10/20/2003
Gwaltney, Michael | Richmond, VA | 10/20/2003
Haden, Blanche | Bluefield, WV | 10/20/2003
Handley, Choi | St. Louis, MO | 10/20/2003
Hankinson, Theresa | Elizabeth City, NC | 10/20/2003
Hardaway, Vida | Biloxi, MS | 10/20/2003
Harmer, Bonnie | Springville, UT | 10/20/2003
Harrell, Wendy | Kernersville, NC | 10/20/2003
Harrison, Tammy | Birmingham, AL | 10/20/2003
Hartley, Gail | Guilford, VT | 10/20/2003
Hartranft, Elizabeth | Bay Village, OH | 10/20/2003
Hefner, Frederick | Moab, Ut | 10/20/2003
Henderson, Melissa | Kokomo, IN | 10/20/2003
Higgins, Peggy | Pottsville, PA | 10/20/2003
Hill, Susan | Corydon, KY | 10/20/2003
Holloway, Vickie | Oklahoma City, OK | 10/20/2003
Holm, Sadie | Litchfield, IL | 10/20/2003
Holmes, Christine | Greenfield, MA | 10/20/2003
Honeycutt, Michael | West Allis, WI | 10/20/2003
Horn, April | Kernersville, NC | 10/20/2003
Hoveland, Laurie | Seattle, WA | 10/20/2003
Hudson, Nia | Valencia, CA | 10/20/2003
Iodice, Sheryl | Lanesboro, MA | 10/20/2003
Jachim, Elizabeth | Chicago, IL | 10/20/2003
Jacobson, Kimberly | Lacrescent, MN | 10/20/2003
Jakielo, Jane | Aurora, CO | 10/20/2003
Jaquish, Sally | Boulder, CO | 10/20/2003
Jaros, Todd | Westlake, OH | 10/20/2003
Jarvis, Kristen | St. Albans, VT | 10/20/2003
Jenkins, Tamala | Yuba City, CA | 10/20/2003
Jeon, Crystal | San Antonio, TX | 10/20/2003
Jones, Danny | Raleigh, NC | 10/20/2003
Jones, Suzette | Centralia, IL | 10/20/2003
Joyce, Richard | Elk Grove Village, IL | 10/20/2003
Justin, Jeffrey | Dayton, MN | 10/20/2003
Kaden, Wendy | Woodstock, IL | 10/20/2003
Kane, Patricia | Woburn, MA | 10/20/2003
Kaytes, Fred | Hollywood, FL | 10/20/2003
Kennedy, Jeffrey | Shelby Township, MI | 10/20/2003
Kerr, Kevin | Kansas City, KS | 10/20/2003
Kilgrow, Debbie | West Valley City, UT | 10/20/2003
King, Toi | Gary, IN | 10/20/2003
Kopiecki, Albert | Salem, MA | 10/20/2003
Kubby, David | Des Moines, IA | 10/20/2003
Kunka, Monte | Belle Vernon, PA | 10/20/2003
Lee, Clifford | Sellersburg, IN | 10/20/2003
Lemieszewski, John | Whitestone, NY | 10/20/2003
Lennon, Lee | Winston-Salem, NC | 10/20/2003
Levering, Carol | Egg Harbor Townshp, NJ | 10/20/2003
Lingner, John | Houston, TX | 10/20/2003
Lipsky, Melissa | Breinigsville, PA | 10/20/2003
Llana, Cynthia | San Diego, CA | 10/20/2003
Lukas, Kari | Waupaca, WI | 10/20/2003
Lundstrom, Patricia | Vancouver, WA | 10/20/2003
Lynn, Mary | S Williamsport, PA | 10/20/2003
Mann, Christine | So Pasadena, FL | 10/20/2003
Marble, Nancy | Phoenix, AZ | 10/20/2003
Marshall, Barbara | Cadott, WI | 10/20/2003
Maxwell, Leslie | Colorado Springs, CO | 10/20/2003
McCarter-Veeck, Mia | Boulder Creek, CA | 10/20/2003
McCoy, Julie | La Porte, IN | 10/20/2003
McIntyre, Chelly | Jacksonville Beach, FL | 10/20/2003
McIntyre, Gerald | Mt Lake Terrace, WA | 10/20/2003
McKinley, Janet | Harrah, OK | 10/20/2003
McPhail, Charles | Holly, MI | 10/20/2003
Meares, Dianda | Charlotte, NC | 10/20/2003
Meyer, James | Watertown, WI | 10/20/2003
Meyer, Susan | Johnston, IA | 10/20/2003
Mezzacapo, Tori | Erie, PA | 10/20/2003
Miccia, Anthony | Apache Junction, AZ | 10/20/2003
Milford, Ramanda | Oil City, PA | 10/20/2003
Miller, Brenda | Evergreen Park, IL | 10/20/2003
Miller, David | Marion, OH | 10/20/2003
Miller, Shelley | Elon College, NC | 10/20/2003
Miller, Stephen | Sarasota, FL | 10/20/2003
Minerly-Wiesenthal, Luann | Hollywood, FL | 10/20/2003
Mohorn, Christina | Greensboro, NC | 10/20/2003
Moore-Evans, Jacqueline | Missouri City, TX | 8/4/2003
Munson, Cheryl | Clearwater, FL | 10/20/2003
Murphy, Brandi | Walla Walla, WA | 10/20/2003
Neeley, Virginia | Brookville, IN | 10/20/2003
Nelsen, John | Goddard, KS | 10/20/2003
Nofsinger, Patricia | Holmesville, OH | 10/20/2003
Norton, Paul | Auburn, WA | 10/20/2003
Nowlin, Cynthia | Virginia Beach, VA | 10/20/2003
Oglesbee, Samantha | Broadway, NC | 10/20/2003
Olden, Predithia | Belleville, MI | 10/20/2003
Oosterhoudt, Gerri | Lake City, FL | 10/20/2003
Overman, Tammy | Colorado Springs, CO | 10/20/2003
Palmer, Michelle | Corning, IA | 10/20/2003
Palumbo, Phyllis | Tamaqua, PA | 10/20/2003
Parrish, Sherrin | Raleigh, NC | 10/20/2003
Patrick, Amber | Bellingham, WA | 10/20/2003
Patrick, Terry | Terre Haute, IN | 10/20/2003
Peace, Tammy | Cawood, KY | 10/20/2003
Penninger, Tracy | Concord, NC | 10/20/2003
Perlstein, Larry | Scottsdale, AZ | 10/20/2003
Peterlin, Kimberly | Hinsdale, IL | 10/20/2003
Phalon, Rorie | Slatington, PA | 10/20/2003
Philippi, Deborah | Cheyenne, WY | 10/20/2003
Philips, Craig | Madison, WI | 10/20/2003
Phipps-Gautrey, Carolyn | Navarro, CA | 10/20/2003
Pisterman, Sergio | Louisville, KY | 10/20/2003
Pizzorno, Gerard | New York, NY | 10/20/2003
Pocurull, Rogelio | Miami, FL | 10/20/2003
Polito, Jeannie | Evanston, IL | 10/20/2003
Popovich, Michael | Weirton, WV | 10/20/2003
Prescimone, Doreen | Perry Hall, MD | 10/20/2003
Price, Sandra | Iowa City, IA | 10/20/2003
Reed, Kathleen | Skokie, IL | 10/20/2003
Reichel, Joann | Erie, PA | 10/20/2003
Rekawik, Peter | Elk Grove Village, IL | 10/20/2003
Richardson, Raymond | Chicago, IL | 10/20/2003
Rivera, Brenda | Pueblo, CO | 10/20/2003
Roark, Valora | Indianapolis, IN | 10/20/2003
Roberts, Elizabeth | Oak Park, MI | 10/20/2003
Robin, Roberta | Hackettstown, NJ | 10/20/2003
Roeser, Jacqueline | Pueblo West, CO | 10/20/2003
Romig, Ronda | Montoursville, PA | 10/20/2003
Rosania, Nicholas | Long Valley, NJ | 10/20/2003
Rosemond, Carlton | Chicago, IL | 10/20/2003
Rucker, Cari | Lebanon, TN | 10/20/2003
Rucker, Lonie | Chicago, IL | 10/20/2003
Ruybalid, Guy | San Jose, CA | 10/20/2003
Ryan, John | Painesville, OH | 10/20/2003
Salazar, Hector | Chicago, IL | 10/20/2003
Schneegas, Peter | Elmhurst, IL | 10/20/2003
Scott, Shelly | Senatobia, MS | 10/20/2003
Sealy, Gracelia | Jacksonville, FL | 10/20/2003
Sexton-Gaiderowicz, Kimberly | Riverside, NJ | 10/20/2003
Shearer, Wendy | Erie, IL | 10/20/2003
Shern, Thomas | Lavale, MD | 10/20/2003
Shoemaker, Kristie | Pleasant Grove, AL | 10/20/2003
Shuster, Marvin | Hollywood, FL | 10/20/2003
Sims, Lisa | Butler, PA | 10/20/2003
Smith, Cherie | Chesapeake, VA | 10/20/2003
Smith, Eric New | Albany, IN | 10/20/2003
Smith, Susan | Noblesville, IN | 10/20/2003
Smitherman, Sharon | Greenville, NC | 10/20/2003
Spaide, Sharon | Wilkes Barre, PA | 10/20/2003
Sparks, Melinda | Indianapolis, IN | 10/20/2003
Stanford, Shirley | South Bend, IN | 10/20/2003
Stevens, Deborah | Jacksonville, FL | 10/20/2003
Stewart, Laura | Hobart, IN | 10/20/2003
Stoegbauer, Barbara | Powers Lake, ND | 10/20/2003
Sveda, Stephen | Coshocton, OH | 10/20/2003
Swinson, Jerry Crown | Pointe, IN | 10/20/2003
Tasca, Anthony | Blackwood, NJ | 10/20/2003
Taylor, Judith | Renton, WA | 10/20/2003
Taylor, Lori | Nakina, NC | 10/20/2003
Terry, Rae | Bethel Park, PA | 10/20/2003
Thomas, Kathryn | Baltimore, MD | 10/20/2003
Thorne, Karen | Clemmons, NC | 10/20/2003
Thurston, Patricia | Pardeeville, WI | 10/20/2003
Tolbert, Pamela | Bastian, VA | 10/20/2003
Tolson McGhee, Bridgett | Jeffersonville, IN | 10/20/2003
Townsend, Joanne | Merrimac, MA | 10/20/2003
Trahan, Mary | Greenfield, WI | 10/20/2003
Udelhoven, Pamela | Livingston, WI | 10/20/2003
Upshaw, Bernadine | Country Club HILLS, IL | 10/20/2003
Uwamariya, Beatrice | Loma Linda, CA | 10/20/2003
Vergoglini, Rocco | Pennsauken, NJ | 10/20/2003
Veszpremy-Turner, Patricia | Trabuco Canyon, CA | 10/20/2003
Vida, Gretchen | Prescott Valley, AZ | 10/20/2003
Walsh, Patrick | Spokane, WA | 10/20/2003
Ward, Kelly | Lovell, WY | 10/20/2003
Weeks, Robert | Hobart, IN | 10/20/2003
Weiss, Jane | Flemington, NJ | 10/20/2003
Williams, Nyla | Phoenix, AZ | 10/20/2003
Williamson, Kathleen | Philadelphia, PA | 10/20/2003
Wilson, Jayne | Mount Prospect, IL | 10/20/2003
Winholt, Jeffrey | Cincinnati, OH | 10/20/2003
Wood, Monica | Springfield, IL | 10/20/2003
Woods, Kyle | Pomeroy, OH | 10/20/2003
Woodward, Martha | Manitou Springs, CO | 10/20/2003
Wright, Kathy | Lawton, OK | 10/20/2003
Young, Jennifer | Zolfo Springs, FL | 10/20/2003
Yow, Tara | Sophia, NC | 10/20/2003
Zwolinski, Russell | Chicago, IL | 10/20/2003
Federal/State Exclusion/Suspension
Salvador, Enrique | Chicago, IL | 10/20/2003
Fraud/Kickbacks
Eric Wetsman, Do, Inc | San Diego, CA | 5/16/2003
Minor, Sue | Auburn, CA | 7/1/2003
South County Rehabilitation, Inc (SCR) | St. Louis, MO | 3/31/2003
Wetsman, Herman | La Jolla, CA | 5/16/2003
Owned/Controlled by Convicted Entities
Advocate RX, Inc N | Miami Beach, FL | 10/20/2003
Building Mgmt and Maintenance | Cape Coral, FL | 10/20/2003
Capital Fund, LLC | Reno, NV | 10/20/2003
Compassionate Care Group | Minneapolis, MN | 10/20/2003
Corico International Inc | West Palm Beach, FL | 10/20/2003
Drug Testing Center, LLC | N Las Vegas, NV | 10/20/2003
European Health Care Center | Reno, NV | 10/20/2003
European Management Group, Inc | Reno, NV | 10/20/2003
Fitness Management Services, Inc | Reno, NV | 10/20/2003
Future Fitness, Inc | Reno, NV | 10/20/2003
Global Marketing Center Inc | Aventura, FL | 10/20/2003
Health Management Inc | Reno, NV | 10/20/2003
Pharmacist Rus, Inc | Miami, FL | 10/20/2003
Rainbow Chiropractic | Houston, TX | 8/4/2003
Sajer Medical Inc | Miami, FL | 10/20/2003
Unimed Medical Center, Inc | Miami, FL | 10/20/2003
Y & G Luckstone, Inc | Fort Dix, NJ | 10/20/2003
Default on Heal Loan
Araghi, Mahbod | Hayward, CA | 10/20/2003
Aufdemberg, Stanley | Anaheim, CA | 10/20/2003
Ayala, Juan | San German, PR | 10/20/2003
Bentley, David | San Francisco, CA | 10/20/2003
Berthelsen, Roger | Palm Springs, CA | 10/20/2003
Denney, Teresa | Honolulu, HI | 9/3/2003
Hunt, Celia | San Jose, CA | 10/20/2003
Jeffcoat, Lori | Alameda, CA | 10/20/2003
Ju, Yue | Dolly City, Ca | 10/20/2003
Kazemipour, Reza | Mountain View, CA | 10/20/2003
Lippay, Ronald | Sunnyvale, CA | 10/20/2003
Martin, Kathleen | Forestville, CA | 10/20/2003
Michail, Medhat | Jersey City, NJ | 8/20/2003
Myers, Karen | San Francisco, CA | 10/20/2003
Nave, Kenneth | Des Plaines, IL | 10/20/2003
Ocon, Luis | Salinas, CA | 10/20/2003
Richardson, John | Lakeport, CA | 10/20/2003
Rogers, Steven | Paradise, CA | 10/20/2003
Short, Adrienne | San Raffael, CA | 10/20/2003
Sloan, Sandra | Oakland, CA | 10/20/2003
Terides, Michael | Capitola, CA | 10/20/2003
Theobald, Patrick | Springfield, MO | 8/26/2003
Wong, Wan-Sing | San Francisco, CA | 10/20/2003
Ziegler, Daniel | Healdsburg, CA | 10/20/2003

Dated: October 17, 2003.
Katherine B. Petrowski,
Director, Exclusions Staff, Office of Inspector General.

[FR Doc. 03-27192 Filed 10-28-03; 8:45 am]

BILLING CODE 4150-04-P